DEPARTMENT OF DEFENSE

Office of the Secretary

[Transmittal No. 19-0G]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0G with attached Policy Justification.

Dated: June 7, 2019.
Aaron T. Siegel,
Alternate OSD Federal Register Liaison Officer, Department of Defense.

BILLING CODE 5001-06-P

BILLING CODE 5001-06-C

Transmittal No. 19-0G

REPORT OF ENHANCEMENT OR UPGRADE OF SENSITIVITY OF TECHNOLOGY OR CAPABILITY (SEC. 36(B)(5)(C), AECA)

(i) Purchaser: Royal Kingdom of the Netherlands.

(ii) Sec. 36(b)(1), AECA Transmittal No.: 17-46.

Date: October 11, 2017

Military Department: Air Force

(iii) Description: On October 11, 2017, Congress was notified by Congressional Transmittal Number 17-46, of the possible sale under Section 36(b)(1) of the Arms Export Control Act of twenty-six (26) AIM-120 C-7 Advanced Medium Range Air-to-Air Missiles (AMRAAM) and one (1) AMRAAM Spare Guidance Section. Also included were twenty (20) AMRAAM Captive Air Training Missiles (CATM), missile containers, control section spares, weapon systems support, test equipment, spare and repair parts, publications and technical documentation, personnel training, training equipment, U.S. Government and contractor engineering, logistics, technical support services, and other related elements of logistics and program support. The estimated total cost was $53 million. Major Defense Equipment (MDE) constituted $48 million of this total.

This transmittal notifies an additional one hundred twenty-four (124) AIM-120 C-7 Advanced Medium Range Air-to-Air Missiles (AMRAAM) and an additional two (2) AMRAAM Spare Guidance Sections (both MDE). The inclusion of these items will result in a net increase in MDE cost of $255 million. The total case value will increase to $308 million.

(iv) Significance: This proposed sale will provide the Netherlands with the equipment necessary to support the requested F-35A capability during operations.

(v) Justification: This proposed sale will support the foreign policy and national security of the United States by helping to improve the security of a NATO ally that continues to be an important force for political stability and economic progress in Northern Europe.

(vi) Sensitivity of Technology: The AIM-120C Advanced Medium Range Air-to-Air Missile (AMRAAM) is a radar-guided missile featuring digital technology and micro-miniature solid-state electronics. AMRAAM capabilities include look-down/shoot-down, multiple launches against multiple targets, resistance to electronic counter measures, and interception of high flying, low flying, and maneuvering targets. The AMRAAM is classified CONFIDENTIAL, major components and subsystems range from UNCLASSIFIED to CONFIDENTIAL, and technology data and other documentation are classified up to SECRET.

(vii) Date Report Delivered to Congress: April 15, 2019

[FR Doc. 2019-12372 Filed 6-11-19; 8:45 am]

BILLING CODE 5001-06-C